DEPARTMENT OF ENERGY

Federal Energy Regulatory Commission

Combined Notice of Filings #1

Take notice that the Commission received the following electric rate filings:

Docket Numbers: ER10-2400-002; ER10-2401-002; ER10-2402-002; ER11-3414-004; ER10-2403-002.

Applicants: Blue Canyon Windpower LLC, Blue Canyon Windpower II LLC, Blue Canyon Windpower V LLC, Blue Canyon Windpower VI LLC, Cloud County Wind Farm, LLC.

Description: Blue Canyon Windpower LLC, et al. submits Updated Market Power Analysis for Southwest Power Pool Region.

Filed Date: 12/27/12.

Accession Number: 20121227-5173.

Comments Due: 5 p.m. ET 2/25/13.

Docket Numbers: ER11-4534-004.

Applicants: Public Service Company of New Mexico.

Description: Errata to Revised PSA to be effective 12/10/2012.

Filed Date: 12/27/12.

Accession Number: 20121227-5128.

Comments Due: 5 p.m. ET 1/17/13.

Docket Numbers: ER12-817-001.

Applicants: Midwest Independent Transmission System Operator, Inc.

Description: Midwest Independent Transmission System Operator, Inc. submits tariff filing per 35: 12-27-2012 RAR Compliance Filing to be effective 2/27/2013.

Filed Date: 12/27/12.

Accession Number: 20121227-5059.

Comments Due: 5 p.m. ET 1/17/13.

Docket Numbers: ER12-2706-001.

Applicants: Midwest Independent Transmission System Operator, Inc.

Description: 12-27-2012 RAR GAP Compliance Filing to be effective 11/28/2012.

Filed Date: 12/27/12.

Accession Number: 20121227-5089.

Comments Due: 5 p.m. ET 1/17/13.

Docket Numbers: ER13-624-000.

Applicants: ArcLight Energy Marketing, LLC.

Description: ArcLight Energy Marketing, LLC submits tariff filing per 35.13(a)(2)(iii: AEM Second Revised MBR to be effective 12/28/2012.

Filed Date: 12/27/12.

Accession Number: 20121227-5058.

Comments Due: 5 p.m. ET 1/17/13.

Docket Numbers: ER13-625-000.

Applicants: Public Service Company of Colorado.

Description: 2012-12-27-NSP-Tran-to Load-Master Agrmts-545 to be effective 1/1/2013.

Filed Date: 12/27/12.

Accession Number: 20121227-5088.

Comments Due: 5 p.m. ET 1/17/13.

Docket Numbers: ER13-626-000.

Applicants: Wisconsin Public Service Corporation.

Description: WPSC Distribution Interconnection Agreement with WEPCO to be effective 1/1/2013.

Filed Date: 12/27/12.

Accession Number: 20121227-5098.

Comments Due: 5 p.m. ET 1/17/13.

Docket Numbers: ER13-627-000.

Applicants: Alliant Energy Corporate Services, Inc.

Description: Cancellation of AECS Market-Based Rate Wholesale Power Sales Tariff to be effective 12/31/2012.

Filed Date: 12/27/12.

Accession Number: 20121227-5116.

Comments Due: 5 p.m. ET 1/17/13.

Docket Numbers: ER13-628-000.

Applicants: Wellhead Power Delano, LLC.

Description: Notice of Succession to be effective 12/28/2012.

Filed Date: 12/27/12.

Accession Number: 20121227-5123.

Comments Due: 5 p.m. ET 1/17/13.

Docket Numbers: ER13-629-000.

Applicants: Public Service Company of Colorado.

Description: 2012-12-27-NSP-Tran-to Load-Master Agrmt-542 to be effective 1/1/2013.

Filed Date: 12/27/12.

Accession Number: 20121227-5140.

Comments Due: 5 p.m. ET 1/17/13.

Docket Numbers: ER13-630-000.

Applicants: Arizona Public Service Company.

Description: Triennial Market Power Update and Market-Based Rate Tariff Modification to be effective 3/1/2013.

Filed Date: 12/27/12.

Accession Number: 20121227-5147.

Comments Due: 5 p.m. ET 2/25/13.

Docket Numbers: ER13-633-000.

Applicants: Public Service Company of Colorado.

Description: 2012-12-27-NSP-Tran-to Load-Master Agrmts-543 to be effective 1/1/2013.

Filed Date: 12/27/12.

Accession Number: 20121227-5155.

Comments Due: 5 p.m. ET 1/17/13.

Docket Numbers: ER13-636-000.

Applicants: Midwest Independent Transmission System Operator, Inc.

Description: SA 1926 METC-Consumers DTIA to be effective 3/1/2013.

Filed Date: 12/27/12.

Accession Number: 20121227-5167.

Comments Due: 5 p.m. ET 1/17/13.

Docket Numbers: ER13-637-000.

Applicants: Southern California Edison Company.

Description: SGIA & Distribution Service Agmt Golden Solar-Leffington Roof Top Solar Project to be effective 2/27/2013.

Filed Date: 12/28/12.

Accession Number: 20121228-5000.

Comments Due: 5 p.m. ET 1/18/13.

Docket Numbers: ER13-638-000.

Applicants: Southern California Edison Company.

Description: SGIA & Distribution Service Agmt with Golden Solar-Adler Roof Top Solar Project to be effective 2/27/2013.

Filed Date: 12/28/12.

Accession Number: 20121228-5001.

Comments Due: 5 p.m. ET 1/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2012.
Nathaniel J. Davis, Sr.,
Deputy Secretary.

[FR Doc. 2013-00411 Filed 1-10-13; 8:45 am]

BILLING CODE 6717-01-P